DEPARTMENT OF EDUCATION

[CFDA No. 84.116J]

Fund for the Improvement of Postsecondary Education—Special Focus Competition: European Community—United States of America Cooperation Program in Higher Education and Vocational Education and Training; Notice Inviting Applications for New Awards for Fiscal Year (FY) 2002

Purpose of Program: To provide grants or enter into cooperative agreements to improve postsecondary education opportunities by focusing on problem areas or improvement approaches in postsecondary education.

Eligible Applicants: Institutions of higher education and vocational education and training or combinations of institutions and other public and private nonprofit educational institutions and agencies.

Deadline for Transmittal of Applications: April 1, 2002.

Deadline for Intergovernmental Review: May 15, 2002.

Applications Available: January 14, 2002.

Available Funds: $840,000 in fiscal year 2002; $2,370,000 over three years.

Estimated Range of Awards: $25,000-$200,000 total for up to three years.

Estimated Average Size of Awards: $25,000 for one-year preparatory projects; $35,000 for one-year complementary activities projects; $75,000 for two-year complementary activities projects; $50,000 for year one of a three-year consortia implementation project with a $200,000 three-year total.

Estimated Number of Awards: 12.

Note: The Department is not bound by any estimates in this notice.

Project Period: Up to 36 months.

Applicable Regulations: The Education Department General Administrative Regulations (EDGAR) in 34 CFR parts 74, 75, 77, 79, 80, 82, 85, 86, 97, 98, and 99.

SUPPLEMENTARY INFORMATION: Under the Special Focus Competition, we will award grants or enter into cooperative agreements that focus on problem areas or improvement approaches in postsecondary education. We have included an invitational priority to encourage proposals designed to support the formation of educational consortia of institutions and organizations in the United States and the European Union to encourage cooperation in the coordination of curricula, the exchange of students and the opening of educational opportunities between the United States and the European Union. The invitational priority is issued in cooperation with the European Union. European institutions participating in any consortium proposal responding to the invitational priority may apply to the European Commission's Directorate General for Education and Culture for additional funding under a separate European competition.

Priority

The Secretary is particularly interested in applications that meet the following invitational priority. However, an application that meets this invitational priority does not receive competitive or absolute preference over other applications (34 CFR 75.105(c)(1)).

Invitational Priority: Projects that support consortia of institutions of higher education that promote institutional cooperation and student mobility between the United States and the Member States of the European Union.

Methods for Applying Selection Criteria

The Secretary gives equal weight to the listed criteria. Within each of the criteria, the Secretary gives equal weight to each of the factors.

Selection Criteria

In evaluating applications for grants under this program competition, the Secretary uses selection criteria chosen from those listed in 34 CFR 75.210.

For Applications Contact: Education Publications Center (ED Pubs), P.O. Box 1398, Jessup, MD 20794-1398, Telephone (toll free) 1-877-433-7827, fax (301) 470-1244. If you use a telecommunications device for the deaf (TDD), you may call (toll free) 1-877-576-7734. You may also contact ED Pubs at its web site: http://www.ed.gov/pubs/edpubs.html or you may contact ED Pubs at its e-mail address: edpubs@inet.ed.gov.

If you request an application from ED Pubs, be sure to identify this competition as follows: CFDA number 84.116J. You may also request application forms by calling 732-544-2504 (fax on demand), or application guidelines by calling 202-358-3041 (voice mail) or submitting the name of the competition and your name and postal address to FIPSE@ed.gov (e-mail).

Applications are also listed on the FIPSE Web Site: http://www.ed.gov/FIPSE e-APPLICATIONS are available at: http://e-grants.ed.gov.

Individuals who use a telecommunications device for the deaf (TDD) may call the Federal Information Relay Service (FIRS) at 1-800-877-8339. For additional program information call the FIPSE office (202-502-7500) between the hours of 8 a.m. and 5 p.m., Eastern Time, Monday through Friday.

Individuals with disabilities may obtain this document in an alternative format (e.g., Braille, large print, audiotape, or computer diskette) on request to the contact number listed under For Applications Contact.

Individuals with disabilities also may obtain a copy of the application package in an alternative format by contacting that number. However, the Department is not able to reproduce in an alternative format the standard forms included in the application package.

Application Procedures

Note: Some of the procedures in these instructions for transmitting applications differ from those in EDGAR (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In Fiscal Year 2002 the U.S. Department of Education is continuing to expand its pilot project of electronic submission of applications to include additional grant programs and additional discretionary grant competitions. The European Community-United States of America Cooperation Program in Higher Education and Vocational Education and Training CFDA 84.116J is included in the pilot project. If you are an applicant under the European Community-United States of America Cooperation Program in Higher Education and Vocational Education and Training, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Title Page, (substitutes for the ED Form 424), Budget Information-Non-Construction Programs (substitutes for the ED Form 524), and all necessary assurances and certifications.

• Within three working days of submitting your electronic application fax a signed copy of the Title Page to the Application Control Center after following these steps:

1. Print the Title Page from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of the Title Page.

5. Fax the Title Page to the Application Control Center at (202) 260-1349.

• We may request that you give us original signatures on all other forms at a later date.

You may access the electronic grant application for the European Community-United States of America Cooperation Program in Higher Education and Vocational Education and Training at: http://e-grants.ed.gov.

Due to software upgrades, it is anticipated that the e-Application software will be unavailable for several days in mid-January. The tentative dates for this system down time are January 11-21, 2002. Please check this site for future updates on system availability.

We have included additional information about the e-APPLICATION pilot project (see Parity Guidelines between Paper and Electronic Applications) in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1138-1138d.

Dated: January 8, 2002.
Kenneth W. Tolo,
Acting Deputy Assistant Secretary for Policy, Planning and Innovation, Office of Postsecondary Education.

[FR Doc. 02-728 Filed 1-10-02; 8:45 am]

BILLING CODE 4001-01-U